DEPARTMENT OF HOMELAND SECURITY

Federal Emergency Management Agency

[Docket ID FEMA-2017-0002; Internal Agency Docket No. FEMA-B-1770]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will be finalized on the dates listed the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: December 5, 2017.
Roy E. Wright,
Deputy Associate Administrator for Insurance and Mitigation, Department of Homeland Security, Federal Emergency Management Agency.

State and county | Location and case No. | Chief executive officer of community | Community map repository | Online location of letter of map revision | Date of modification | Community No.
Alabama:
Houston | City of Dothan (17-04-1523P) | The Honorable Mike Schmitz, Mayor, City of Dothan, 126 North Saint Andrews Street, Suite 201, Dothan, AL 36303 | City Hall, 126 North Saint Andrews Street, Suite 201, Dothan, AL 36303 | https://msc.fema.gov/portal/advanceSearch | Mar. 9, 2018 | 010104
Shelby | City of Helena (17-04-6802P) | The Honorable Mark R. Hall, Mayor, City of Helena, 816 Highway 52E, Helena, AL 35080 | City Hall, 816 Highway 52E, Helena, AL 35080 | https://msc.fema.gov/portal/advanceSearch | Mar. 8, 2018 | 010294
Shelby | City of Hoover (17-04-6802P) | The Honorable Frank Brocato, Mayor, City of Hoover, 100 Municipal Lane, Hoover, AL 35216 | City Hall, 100 Municipal Lane, Hoover, AL 35216 | https://msc.fema.gov/portal/advanceSearch | Mar. 8, 2018 | 010123
Shelby | City of Pelham (17-04-7130P) | The Honorable Gary W. Waters, Mayor, City of Pelham, 3162 Pelham Parkway, Pelham, AL 35124 | City Hall, 3162 Pelham Parkway, Pelham, AL 35124 | https://msc.fema.gov/portal/advanceSearch | Mar. 1, 2018 | 010193
Shelby | Unincorporated areas of Shelby County (17-04-6802P) | The Honorable Jon Parker, Chairman, Shelby County Commission, P.O. Box 467, Columbiana, AL 35051 | Shelby County Engineering Department, 506 Highway 70, Columbiana, AL 35051 | https://msc.fema.gov/portal/advanceSearch | Mar. 8, 2018 | 010191
Arkansas: Benton | City of Rogers (17-06-3502P) | The Honorable Greg Hines, Mayor, City of Rogers, 301 West Chestnut Street, Rogers, AR 72756 | City Hall, 301 West Chestnut Street, Rogers, AR 72756 | https://msc.fema.gov/portal/advanceSearch | Mar. 2, 2018 | 050013
Colorado:
Arapahoe | City of Centennial (17-08-0785P) | The Honorable Cathy Noon, Mayor, City of Centennial, 13133 East Arapahoe Road, Centennial, CO 80112 | Southeast Metro Stormwater Authority, 7437 South Fairplay Street, Centennial, CO 80112 | https://msc.fema.gov/portal/advanceSearch | Mar. 23, 2018 | 080315
Boulder | City of Lafayette (17-08-0625P) | The Honorable Christine Berg, Mayor, City of Lafayette, 1290 South Public Road, Lafayette, CO 80026 | City Hall, 1290 South Public Road, Lafayette, CO 80026 | https://msc.fema.gov/portal/advanceSearch | Mar. 8, 2018 | 080026
Boulder | City of Louisville (17-08-0625P) | The Honorable Bob Muckle, Mayor, City of Louisville, 749 Main Street, Louisville, CO 80027 | City Hall, 749 Main Street, Louisville, CO 80027 | https://msc.fema.gov/portal/advanceSearch | Mar. 8, 2018 | 085076
Boulder | Unincorporated areas of Boulder County (17-08-0625P) | The Honorable Deb Gardner, Chair, Boulder County Board of Commissioners, P.O. Box 471, Boulder, CO 80306 | Boulder County Transportation Department, 2525 13th Street, Suite 203, Boulder, CO 80304 | https://msc.fema.gov/portal/advanceSearch | Mar. 8, 2018 | 080026
Florida:
Broward | Town of Hillsboro Beach (17-04-4804P) | The Honorable Deborah Tarrant, Mayor, Town of Hillsboro Beach, 1210 Hillsboro Mile, Hillsboro Beach, FL 33062 | Building Department, 1210 Hillsboro Mile, Hillsboro Beach, FL 33062 | https://msc.fema.gov/portal/advanceSearch | Mar. 19, 2018 | 120040
Broward | Unincorporated areas of Broward County (17-04-4804P) | The Honorable Barbara Sharief, Mayor, Broward County Board of Commissioners, 115 South Andrews Avenue, Room 520, Ft. Lauderdale, FL 33301 | Broward County Environmental Engineering and Permitting Division, 1 North University Drive, Ft. Lauderdale, FL 33324 | https://msc.fema.gov/portal/advanceSearch | Mar. 19, 2018 | 125093
Collier | City of Marco Island (17-04-6180P) | The Honorable Larry Honig, Chairman, City of Marco Island Council, 50 Bald Eagle Drive, Marco Island, FL 34145 | Building Department, 50 Bald Eagle Drive, Marco Island, FL 34145 | https://msc.fema.gov/portal/advanceSearch | Mar. 21, 2018 | 120426
Duval | City of Jacksonville (17-04-1426P) | The Honorable Lenny Curry, Mayor, City of Jacksonville, 117 West Duval Street, Suite 400, Jacksonville, FL 32202 | Development Services Department, 214 North Hogan Street, Room 2100, Jacksonville, FL 32202 | https://msc.fema.gov/portal/advanceSearch | Mar. 12, 2018 | 120077
Hillsborough | City of Tampa (17-04-5729P) | The Honorable Bob Buckhorn, Mayor, City of Tampa, 306 East Jackson Street, Tampa, FL 33602 | Development Services Department, 1400 North Boulevard, Tampa, FL 33607 | https://msc.fema.gov/portal/advanceSearch | Mar. 7, 2018 | 120114
Lee | Town of Fort Myers Beach (17-04-5026P) | The Honorable Dennis C. Boback, Mayor, Town of Fort Myers Beach, 2523 Estero Boulevard, Fort Myers Beach, FL 33931 | Community Development Department, 2523 Estero Boulevard, Fort Myers Beach, FL 33931 | https://msc.fema.gov/portal/advanceSearch | Mar. 8, 2018 | 120673
Manatee | City of Bradenton (17-04-8018X) | The Honorable Wayne H. Poston, Mayor, City of Bradenton, 101 Old Main Street West, Bradenton, FL 34205 | City Hall, 101 Old Main Street West, Bradenton, FL 34205 | https://msc.fema.gov/portal/advanceSearch | Mar. 20, 2018 | 120155
Manatee | Unincorporated areas of Manatee County (17-04-8018X) | The Honorable Betsy Benac, Chair, Manatee County Board of Commissioners, P.O. Box 1000, Bradenton, FL 34206 | Manatee County Building and Development Services Department, 1112 Manatee Avenue West, Bradenton, FL 34205 | https://msc.fema.gov/portal/advanceSearch | Mar. 20, 2018 | 120153
Monroe | City of Key West (17-04-6775P) | The Honorable Craig Cates, Mayor, City of Key West, P.O. Box 1409, Key West, FL 33041 | Building Department, 1300 White Street, Key West, FL 33041 | https://msc.fema.gov/portal/advanceSearch | Mar. 5, 2018 | 120168
Monroe | City of Key West (17-04-6810X) | The Honorable Craig Cates, Mayor, City of Key West, P.O. Box 1409, Key West, FL 33041 | Building Department, 1300 White Street, Key West, FL 33041 | https://msc.fema.gov/portal/advanceSearch | Mar. 5, 2018 | 120168
Pinellas | City of Madeira Beach (17-04-5429P) | The Honorable Maggi Black, Mayor, City of Madeira Beach, 300 Municipal Drive, Madeira Beach, FL 33708 | Community Development Center, 300 Municipal Drive, Madeira Beach, FL 33708 | https://msc.fema.gov/portal/advanceSearch | Mar. 19, 2018 | 125127
Georgia:
Bulloch | Unincorporated areas of Bulloch County (16-04-5191P) | The Honorable Roy Thompson, Chairman, Bulloch County Board of Commissioners, 115 North Main Street, Statesboro, GA 30459 | Bulloch County Development Services Department, 115 North Main Street, Statesboro, GA 30459 | https://msc.fema.gov/portal/advanceSearch | Feb. 22, 2018 | 130019
Effingham | City of Guyton (16-04-5191P) | The Honorable Jeff Lariscy, Mayor, City of Guyton, 310 Central Boulevard, Guyton, GA 31312 | City Hall, 310 Central Boulevard, Guyton, GA 31312 | https://msc.fema.gov/portal/advanceSearch | Feb. 22, 2018 | 130456
Effingham | Unincorporated areas of Effingham County (16-04-5191P) | The Honorable Wesley Corbitt, Chairman, Effingham County Board of Commissioners, 601 North Laurel Street, Springfield, GA 31329 | Effingham County Development Services Department, 601 North Laurel Street, Springfield, GA 31329 | https://msc.fema.gov/portal/advanceSearch | Feb. 22, 2018 | 130076
Maryland: Montgomery | Unincorporated areas of Montgomery County (17-03-0816P) | The Honorable Isiah Leggett, Montgomery County Executive, 101 Monroe Street, 2nd Floor, Rockville, MD 20850 | Montgomery County Department of Permitting Services, 255 Rockville Pike, 2nd Floor, Rockville, MD 20850 | https://msc.fema.gov/portal/advanceSearch | Mar. 23, 2018 | 240049
North Carolina:
Alamance | Unincorporated areas of Alamance County (16-04-8173P) | The Honorable Eddie Boswell, Chairman, Alamance County Board of Commissioners, 124 West Elm Street, Graham, NC 27253 | Alamance County Planning Department, 215 North Graham-Hopedale Road, Burlington, NC 27217 | https://msc.fema.gov/portal/advanceSearch | Nov. 20, 2017 | 370001
Wake | City of Raleigh (16-04-2666P) | The Honorable Nancy McFarlane, Mayor, City of Raleigh, P.O. Box 590, Raleigh, NC 27602 | Stormwater Management Division, 1 Exchange Plaza, Suite 304, Raleigh, NC 27601 | https://msc.fema.gov/portal/advanceSearch | Feb. 14, 2018 | 370243
Wake | Town of Wake Forest (16-04-2666P) | The Honorable Vivian A. Jones, Mayor, Town of Wake Forest, 301 South Brooks Street, Wake Forest, NC 27587 | Town Hall, 301 South Brooks Street, Wake Forest, NC 27587 | https://msc.fema.gov/portal/advanceSearch | Feb. 14, 2018 | 370244
Wake | Unincorporated areas of Wake County (16-04-2666P) | The Honorable Sig Hutchinson, Chairman, Board of Commissioners, P.O. Box 550, Raleigh, NC 27602 | Wake County, Environmental Services Department, 336 Fayetteville Street, Raleigh, NC 27601 | https://msc.fema.gov/portal/advanceSearch | Feb. 14, 2018 | 370368
Oklahoma: Pottawatomie | City of Shawnee (17-06-3304P) | Mr. Justin Erickson, Manager, City of Shawnee, P.O. Box 1448, Shawnee, OK 74801 | City Hall, 16 West 9th Street, Shawnee, OK 74801 | https://msc.fema.gov/portal/advanceSearch | Mar. 12, 2018 | 400178
South Carolina: Charleston | City of Charleston (17-04-6788P) | The Honorable John J. Tecklenburg, Mayor, City of Charleston, P.O. Box 652, Charleston, SC 29401 | Engineering Division, 2 George Street, Charleston, SC 29401 | https://msc.fema.gov/portal/advanceSearch | Mar. 9, 2018 | 455412
Texas:
Bexar | City of San Antonio (17-06-0477P) | The Honorable Ron Nirenberg, Mayor, City of San Antonio, P.O. Box 839966, San Antonio, TX 78283 | Transportation and Capital Improvements Department, Storm Water Division, 1901 South Alamo Street, 2nd Floor, San Antonio, TX 78204 | https://msc.fema.gov/portal/advanceSearch | Mar. 6, 2018 | 480045
Bexar | City of San Antonio (17-06-1913P) | The Honorable Ron Nirenberg, Mayor, City of San Antonio, P.O. Box 839966, San Antonio, TX 78283 | Transportation and Capital Improvements Department, Storm Water Division, 1901 South Alamo Street, 2nd Floor, San Antonio, TX 78204 | https://msc.fema.gov/portal/advanceSearch | Mar. 14, 2018 | 480045
Bexar | City of San Antonio (17-06-2951P) | The Honorable Ron Nirenberg, Mayor, City of San Antonio, P.O. Box 839966, San Antonio, TX 78283 | Transportation and Capital Improvements Department, Storm Water Division, 1901 South Alamo Street, 2nd Floor, San Antonio, TX 78204 | https://msc.fema.gov/portal/advanceSearch | Mar. 20, 2018 | 480045
Denton | City of Frisco (17-06-3544P) | The Honorable Jeff Cheney, Mayor, City of Frisco, 6101 Frisco Square Boulevard, Frisco, TX 75034 | Engineering Services Department, 6101 Frisco Square Boulevard, 3rd Floor, Frisco, TX 75034 | https://msc.fema.gov/portal/advanceSearch | Mar. 12, 2018 | 480134
Denton | Town of Flower Mound (17-06-3619P) | The Honorable Thomas Hayden, Mayor, Town of Flower Mound, 2121 Cross Timbers Road, Flower Mound, TX 75028 | Engineering Department, 2121 Cross Timbers Road, Flower Mound, TX 75028 | https://msc.fema.gov/portal/advanceSearch | Mar. 14, 2018 | 480777
Tarrant | City of Fort Worth (17-06-2291P) | The Honorable Betsy Price, Mayor, City of Fort Worth, 200 Texas Street, Fort Worth, TX 76102 | Transportation and Public Works Department, 200 Texas Street, Fort Worth, TX 76102 | https://msc.fema.gov/portal/advanceSearch | Mar. 8, 2018 | 480596
Tarrant | Unincorporated areas of Tarrant County (17-06-3156P) | The Honorable B. Glen Whitley, Tarrant County Judge, 100 East Weatherford Street, Suite 501, Fort Worth, TX 76196 | Tarrant County Transportation Department, 100 East Weatherford Street, Suite 401, Fort Worth, TX 76196 | https://msc.fema.gov/portal/advanceSearch | Mar. 12, 2018 | 480582
Travis | Unincorporated areas of Travis County (17-06-1733P) | The Honorable Sarah Eckhardt, Travis County Judge, P.O. Box 1748, Austin, TX 78767 | Travis County Planning Department, 700 Lavaca Street, 5th Floor, Austin, TX 78767 | https://msc.fema.gov/portal/advanceSearch | Mar. 19, 2018 | 481026
Virginia: Fauquier | Unincorporated areas of Fauquier County (17-03-2312P) | The Honorable Richard R. Gerhardt, Chairman, Fauquier County Board of Supervisors, 10 Hotel Street, Suite 208, Warrenton, VA 20186 | Fauquier County Circuit Court, 29 Ashby Street, 3rd Floor, Warrenton, VA 20186 | https://msc.fema.gov/portal/advanceSearch | Mar. 22, 2018 | 510055
Wyoming: Teton | Town of Jackson (17-08-1603P) | The Honorable Pete Muldoon, Mayor, Town of Jackson, 150 East Pearl Street, Jackson, WY 83001 | Engineering Department, 450 West Snow King Avenue, Jackson, WY 83001 | https://msc.fema.gov/portal/advanceSearch | Mar. 8, 2018 | 560052

[FR Doc. 2017-28175 Filed 12-28-17; 8:45 am]

BILLING CODE 9110-12-P